DEPARTMENT OF DEFENSE

Department of the Army, Corps of Engineers

Availability of the Draft Environmental Impact Statement for the Raritan Bay and Sandy Hook Bay, Hurricane and Storm Damage Reduction Study, Port Monmouth, New Jersey

AGENCY: U.S Army Amry Corps of Engineers, DoD.

ACTION: Notice of Availability.

SUMMARY: The New York District of the U.S. Army Corps of Engineers has prepared a Draft Environmental Impact Statement (DESI) for the Raritan Bay and Sandy Hook Bay, Hurricane and Storm Damage Reduction Study, Port Monmouth, New Jersey. The purpose of the study is to identify a plan that would protect the Port Monmouth community from damages caused by hurricanes and storm. The DEIS was prepared to evaluate those alternative identified in the Feasibility Report. Additional information on the study is provided the SUPPLEMENTARY INFORMATION section as indicated below.

DATES: The DEIS will be available for public review on or about March 10, 2000. The review period of the document will be for forty five days from the publication date of the DEIS. To request a copy of the DEIS please call (212) 264-4663.

FOR FURTHER INFORMATION CONTACT: For further information regarding the DEIS, please contact Mark Burlas, Project Wildlife Biologist, telephone (212) 264-4663, Planning Division, ATTN: CENAN-PL-EA, Corps of Engineers, New York District, 26 Federal Plaza, New York, New York 10278-0090.

SUPPLEMENTARY INFORMATION: 1. The Raritan Bay and Sandy Hook Bay (RBSHB), Hurricane and Storm Damage Reduction Study, Port Monmouth, New Jersey was authorized by the U.S. House of Representatives, Committee on Public Works and Transportation, adopted August 1, 1990, which states “Resolved by the Committee on Public Works and Transportation of the United States House of Representatives, that the Board of Engineers for Rivers and Harbors is requested to review the report of Chief of Engineers on RBSHB, New Jersey, published as House Document 464, Eighty-seventh Congress, Second Session, and other pertinent reports, to determine the advisability of modifications to the recommendations contained therein to provide erosion control and storm damage prevention for the RBSHB.”

2. The 1.8-square-mile Project area is located in Port Monmouth, Middletown Township, Monmouth County, New Jersey, along the RBSHB, bounded by Compton Creek to the east, Pews Creek to the west, and New Jersey State Highway 36 to the south. The Project was divided into three study area for plan formulation and impact assessment purposes: the Bay Shoreline Study Area (BSSA), the Pews Creek Study Area (PCSA), and the Compton Creek Study Area (CCSA). The BSSA is located along the RBSHB, and comprises the shorefront, beach, and dune complex that has historically experienced significant erosion, and consequently provides limited tidal surge and flood protection to the adjacent Port Monmounth community. The PCSA is located in the western portion of the Project area, and is situated in a highly developed, residential portion of Middletown Township. The PCSA includes the Pews Creek channel, a tidal creek that drains to the north into the RBSHB, and is mostly tidal wetlands. The CCSA is located in the eastern portion of the Project area, and is associated with a high developed, residential portion of Middletown Township. The CCSA includes the Compton Creek channel, a tidal creek that drains to the north into RBSHB, and is mostly tidal wetlands.

3. The selected plan is comprised of levees, floodwalls, a storm gate, road closure gates, fortification of an existing dune, pump stations, stormwater retention basins, beach nourishment, periodic beach renourishment, environmental mitigation, and an offshore borrow area. The selected plan, which is the environmentally preferred plan, was determined to be the National Economic Development (NED) Plan. A NED Plan is one that is consistent with the objectives of contributing to NED through the reduction of flood hazards and associated flood damages while protecting the Nation's natural, cultural, biological, historic, and social resources.

a. The District determined that interior drainage facilities were required to safely store and discharge storm water runoff that would collect on the protected side of the CCSA levee. Specifically, these facilities were planned and evaluated separately from the line of protection (levees and floodwalls) and would provide adequate drainage at least equal to that of the existing infrastructure.

b. Throughout the planning process, the District formulated alternative plans to meet general and specific planning objectives while considering the preferences of various interested parties with regard to plan selection and design. The District has consulted and coordinated its planning efforts with the New Jersey Department of Environmental Protection (JNDEP), the non-Federal sponsor, and representatives of the Middletown Township and various Monmouth County agencies. The plan formulation process emphasized the avoidance and minimization of environmental impacts, especially to wetlands, and then mitigation was included to compensate for unavoidable habitat loss.

c. The selected plan consists of approximately: 7,000 linear feet (ft) of earthen levees average +14 ft National Geodetic Vertical Datum (NGVD); 3,600 ft of concrete floodwalls averaging about +8 ft NGVD; a 40-ft wide storm gate across Pews Creek with a flood water pump house; initial beach nourishment of about 378,500 cubic yards of sand, with periodic renourishment of approximately 125,000 cubic yards of sand at 10-year intervals; and , three interior drainage ponding areas each with primary and secondary drainage outlets.

2. The selected plan without mitigation would directly and indirectly impact approximately 14.89 acres (ac) of wetland and upland areas. The majority of these impacts would involve the conversion of native habitat types to maintained (grass-covered) levees, permanent floodwalls, and storm gate. Specifically, the selected plan would permanently impact several vegetation cover types. Finally, the selected plan would temporarily impact herbaceous, scrub/shrub, Phragmites wetlands, and high salt marsh habitats due to clearing and equipment operation in temporary work areas.

a. Less mobile aquatic and terrestrial wildlife species within the footprint of the selected plan would experience mortality due to construction. Furthermore, a short-term decrease in reproductive success of these species could occur due to construction activities. In the long-term, following habitat conversion, wildlife species would lose or gain habitat resources based on their habitat requirements. No rare, threatened, or endangered species or their critical habitats would be adversely affected by the implementation of the selected plan.

b. The District conducted a Habitat Evaluation Procedures (HEP) analysis to assess the impacts of the selected plan. This HEP analysis concluded that impacts associated with the construction of the selected plan (without mitigation) will result in the loss of 2.04 black duck (Anas rubripes) and 3.14 marsh ren (Cistothorus palustris) habitat units (HUs) at the year of construction (Year 2002). At the year of 2052, black duck and marsh wren habitat quality would be reduced by 49.94 and 136.71 cumulative habitat units (CHUs). Similarly, the AAHU of the black duck and marsh wren decrease by 1.00 and 2.73 over the 50-year design life of the Project. In addition, the HEP analysis determined that 2.13 acres of upland habitat would be impacted, 7.13 acres of wetlands would be converted to upland, and additional 5.63 acres of wetland habitat would be indirectly impacted by the selected plan. Indirect impacts to wetlands involve the conversion, not the loss of non-Phragmites wetlands to Phragmites-dominated wetlands.

c. The selected plan is expected to have a direct, short-term impact on benthic resources. Beach nourishment is expected to smother benthic organisms causing their mortality. However, once buried, some mobile shellfish species and polycheate worms have the ability to burrow upwards and survive. The recovery of benthic resources to preconstruction conditions should occur shortly after construction. A benthic-monitoring plan will be conducted to quantify benthic recovery rates and the composition of the recolonized benthic community.

d. The District developed a tidal hydrodynamic model to compare the effects of a storm gate in Pews Creek to the existing conditions. The model projected that the selected 40-ft storm gate in the open position would lower the mean spring high tide by only 0.72 inches and all other normal tidal events would be unaffected. Accordingly, the effects to the daily tidal exchange are expected to be minute. A monitoring plan is proposed to support the prediction of the model. In addition, the storm gate is anticipated to increase peak ebb tidal velocities potentially allowing more suspended sediments to be transported out of the salt marsh into the RBSHB. As a result, the sedimentation rate of the salt marsh may be reduced.

e. In addition, the implementation of the selected plan can provide benefits to horseshoe crabs (Limulus polyphemus), migratory birds, and the federally threatened piping plover (Charadrius melodus). A wider sandy beach and improved intertidal habitat conditions may provide more suitable spawning habitat for the horseshoe crab, thus potentially increasing prey resources available for consumption by migratory birds. It is well documented that the timing of the spring migration for many species is linked to the spawning activity of the horseshoe crab. Furthermore, a much larger and wider sandy beach created by the construction of the selected plan should provide more roosting space for wintering waterfowl and increase the amount of potential nesting habitat for shorebirds, such as the piping plover.

f. No areas were identified as containing potential environmental contamination, or were considered to pose a great risk to human health. Subsurface testing was performed and evidence of Native American occupation was found in the vicinity of the selected plan's footprint. Further evaluation will be conducted and coordinated with the New Jersey Historic Preservation Office, as part of Section 106 of the National Historic Preservation Act compliance. Short-term negligible impacts to air quality and traffic are expected only during construction.

3. The District, in consultation with the U.S. Fish and Wildlife Service, National Marine Fisheries Service, and NJDEP, developed an array of mitigation plans using HEP protocols. The selected mitigation plan proposes to restore approximately 12.80 acres of wetland Phragmites-dominated habitat to salt marsh habitat. As compared to the No-Action alternative, implementation of the selected plan and selected mitigation plan would increase black duck habitat quality by 0.78 HUs and marsh wren habitat quality by 0.96 HUs at the year of construction. At the year of 2052, black duck and marsh wren habitat quality would increase by 157.83 and 106.55 CHUs. In addition, the AAHU of the black duck and marsh wren would increase by 3.16 and 2.13 over the Project's 50-year design life when compared to the No-Action alternative.

a. Based upon a Phragmites Encroachment Model (PEM) developed by the District specifically for the assessment of future conditions and impacts, the construction of the selected plan and selected mitigation plan would prevent the loss of about 15.27 acres of salt marsh habitat when compared to the No-Action alternative for the 50-year design-life of the Project. In summary, the comparison of the selected plan to the No-Action alternative suggests that implementation of the selected plan will provide long-term benefits to wildlife resources of the intertidal zone and the coastal marsh ecosystem at Port Monmouth.

b. Mitigation measures for cultural resources will be developed in conjunction with the New Jersey Historic Preservation Office, the Advisory Council on Historic Preservation (ACHP), and interested parties.

4. Based on coordination with other federal and state agencies, an unresolved issue has been identified. A consensus to determine the appropriate level of compensatory mitigation to offset environmental impacts has not been reached. The District plans to continue its ongoing coordination effort with other federal and state agencies to secure an agreement concerning the amount of mitigation that is needed to appropriately compensate for environmental impacts. No other unresolved issues are known at this time, pending review of this DEIS.

Frank Santomauro,
Chief, Planning Division.

[FR Doc. 00-5839 Filed 3-9-00; 8:45 am]

BILLING CODE 3710-06-M